DEPARTMENT OF TRANSPORTATION

Federal Aviation Administration

14 CFR Parts 43, 45, and 61

[Docket No. FAA-2023-1377]

RIN 2120-AL50

Modernization of Special Airworthiness Certification; Correction

AGENCY: Federal Aviation Administration (FAA), U.S. Department of Transportation (DOT).

ACTION: Final rule; correction.

SUMMARY: On July 24, 2025, the FAA published a final rule titled “Modernization of Special Airworthiness Certification”. That document amended rules for the manufacture, certification, operation, maintenance, and alteration of lightsport aircraft. After publication of the final rule, FAA became aware of errors in it.

DATES: Effective October 22, 2025.

FOR FURTHER INFORMATION CONTACT: James Newberger, Aircraft Certification Service (AIR-632), Federal Aviation Administration, 800 Independence Ave. SW, Washington, DC 20591, telephone (202) 267-1636; email james.e.newberger@faa.gov.

SUPPLEMENTARY INFORMATION:

Electronic Access and Filing

A copy of the Modernization of Special Airworthiness Certification final rule may be viewed online at https://www.regulations.gov using the docket number listed above. A copy of this correction will be placed in the same docket. Electronic retrieval help and guidelines are available on the website. It is available 24 hours each day, 365 days each year. An electronic copy of this document may also be downloaded from the Office of the Federal Register's website at www.federalregister.gov and the Government Publishing Office's website at www.govinfo.gov. A copy may also be found at the FAA's Regulations and Policies website at www.faa.gov/regulations_policies.

Copies may also be obtained by sending a request to the Federal Aviation Administration, Office of Rulemaking, ARM-1, 800 Independence Avenue SW, Washington, DC 20591, or by calling (202) 267-9677. Commenters must identify the docket number of this rulemaking.

All documents the FAA considered in developing the final rule and this correction, including economic analyses and technical reports, may be accessed in the electronic docket for this rulemaking.

Background

On July 24, 2025, the “Modernization of Special Airworthiness Certification” final rule (RIN 2120-AL50) published in the Federal Register at 90 FR 35034. After publication, FAA discovered that it inadvertently:

• Included 49 U.S.C. 106(g) in the authority section for Parts 43 and 45 in amendatory instructions numbers 27 and 30.

• Excluded a mention of (c)(21) in amendatory instruction number 46.

• Excluded a mention of introductory text in amendatory instruction number 53.

• Referenced “dection” rather than “section” in the first two column headers of Table 5.

This document makes those corrections.

Correction

In FR Doc. 2023-1377, beginning on page 35211, in the Federal Register of July 24, 2025, make the following corrections:

1. Revise amendatory instruction number 27 on page 35221 to read as follows:

27. The authority citation for part 43 is revised to read as follows:

Authority: 42 U.S.C. 7572; 49 U.S.C. 106(f), 40105, 40113, 44701-44702, 44704, 44707, 44709, 44711, 44713, 44715, 45303.

2. Revise amendatory instruction number 30 on page 35221 to read as follows:

30. The authority citation for part 45 is revised to read as follows:

Authority: 49 U.S.C. 106(f), 40103, 40113-40114, 44101-44105, 44107-44111, 44504, 44701, 44708-44709, 44711-44713, 44725, 45302-45303, 46104, 46304, 46306, 47122.

3. Amend amendatory instruction number 46 on page 35215 by adding paragraph (c)(21) to read as follows:

46. Amend § 61.315 by revising paragraphs (a), (c) introductory text, and (c)(5), and adding paragraphs (c)(20) and (c)(21) to read as follows:

4. Revise amendatory instruction number 53 on page 35216 to read as follows:

53. Amend § 61.415 by adding introductory text and paragraphs (k) through (n) to read as follows:

5. Amend Table 5 on page 35119 by removing the word “Dection” and adding in its place the word “Section” in the first two column headers of Table 5 to read as follows:

Proposed section 61.313(a)(9)(i)-(iv) | Adopted section 61.313(a)(9)(i)-(iv) | Adopted training delta

Issued under authority provided by 49 U.S.C. 106(f), 44701(a), and 44703 in Washington, DC.
Brandon Roberts,
Executive Director, Office of Rulemaking.

[FR Doc. 2025-15649 Filed 8-15-25; 8:45 am]

BILLING CODE 4910-13-P